NUCLEAR REGULATORY COMMISSION

[NRC-2012-0067]

Interim Staff Guidance JLD-ISG-2012-03; Compliance with Order EA-12-051, Order Modifying Licenses With Regard to Reliable Spent Fuel Pool Instrumentation

AGENCY: Nuclear Regulatory Commission.

ACTION: Draft Japan Lessons-Learned Project Directorate guidance; request for comment.

SUMMARY: The U.S. Nuclear Regulatory Commission (NRC or the Commission) is issuing the draft Japan Lessons-Learned Project Directorate Interim Staff Guidance (JLD-ISG), JLD-ISG-2012-03, “Compliance With Order EA-12-051, Order Modifying Licenses With Regard to Reliable Spent Fuel Pool Instrumentation.” This JLD-ISG provides guidance and clarification to assist nuclear power reactor applicants and licensees with the identification of measures needed to comply with requirements to install enhanced spent fuel pool monitoring capability.

DATES: Comments must be filed no later than July 7, 2012. Comments received after this date will be considered, if it is practical to do so, but the NRC staff is able to ensure consideration only for comments received on or before this date.

ADDRESSES: You may access information and comment submissions related to this document, which the NRC possesses and are publically available, by searching on http://www.regulations.gov under Docket ID NRC-2012-0067. You may submit comments by the following methods:

• Federal Rulemaking Web site: Go to http://www.regulations.gov and search for Docket ID NRC-2012-0067. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Mrs. Lisa M. Regner, Japan Lessons Learned Project Directorate, Office of Nuclear Reactor Regulation, U.S. Nuclear Regulatory Commission, Washington, DC 20555-0001; telephone: 301-415-1906; email: Lisa.Regner@nrc.gov.

SUPPLEMENTARY INFORMATION:

I. Accessing Information and Submitting Comments

A. Accessing Information

Please refer to Docket ID NRC-2012-0067 when contacting the NRC about the availability of information regarding this document. You may access information related to this document by the following methods:

• Federal Rulemaking Web Site: Go to http://www.regulations.gov and search for Docket ID NRC-2012-0067.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The draft JLD-ISG-2012-03 is available in ADAMS under Accession No. ML12144A323.

• NRC's Interim Staff Guidance Web Site: JLD-ISG documents are also available online under the “Japan Lessons Learned” heading at http://www.nrc.gov/reading-rm/doc-collections/#int.

• NRC's PDR: You may examine and purchase copies of public documents at the NRC's PDR, Room O1-F21, One White Flint North, 11555 Rockville Pike, Rockville, Maryland 20852.

• Public Meeting: Information on the draft ISG will be provided at a public meeting on June 21, 2012, from 9:00 a.m. to 11:00 a.m. in the Commissioner's Hearing Room at NRC Headquarters, One White Flint North, 11555 Rockville Pike, Rockville, MD 20852-2738 (ADAMS Accession No. ML12146A025).

B. Submitting Comments

Please include Docket ID NRC-2012-0067 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

II. Background Information

This draft interim staff guidance (ISG) is being issued to describe to the public methods acceptable to the NRC staff for complying with Order EA-12-051, “Order Modifying Licenses with Regard to Reliable Spent Fuel Pool Instrumentation (Effective Immediately)” (Order EA-12-051), issued March 12, 2012 (ADAMS Accession No. ML12056A044). This draft ISG endorses, with exceptions, the methodologies described in the industry guidance document, Nuclear Energy Institute (NEI) 12-02, Industry Guidance for Compliance with NRC Order EA-12-051, “To Modify Licenses with Regard to Reliable Spent Fuel Pool Instrumentation” (NEI 12-02), Revision B. The draft ISG is not a substitute for the requirements in Order EA-12-051, and compliance with the ISG not required. This ISG is being issued in draft form for public comment to involve the public in development of the implementation guidance.

The U.S. Nuclear Regulatory Commission (NRC) issued Order EA-12-051 following the NRC staff's evaluation of the earthquake and tsunami, and resulting nuclear accident, at the Fukushima Dai-ichi nuclear power plant in March 2011. Order EA-12-051 requires all licensees and construction permit (CP) holders to provide safety enhancements in the form of reliable spent fuel pool instrumentation for beyond-design-basis external events. Order EA-12-051 also requires the NRC staff to issue final interim staff guidance in August 2012 to provide additional details on an acceptable approach for complying with Order EA-12-051.

Following the events at the Fukushima Dai-ichi nuclear power plant, the NRC established a senior-level agency task force referred to as the Near-Term Task Force (NTTF). The NTTF conducted a systematic and methodical review of the NRC regulations and processes, and determined if the agency should make additional improvements to these programs in light of the events at Fukushima Dai-ichi.

As a result of this review, the NTTF developed a comprehensive set of recommendations, documented in SECY-11-0093, Near-Term Report and Recommendations for Agency Actions Following the Events in Japan, dated July 19, 2011. These recommendations were modified by the NRC staff following interactions with stakeholders. Documentation of the NRC staff's efforts is contained in SECY-11-0124, Recommended Actions To Be Taken Without Delay From the Near Term Task Force Report, dated September 9, 2011, and SECY-11-0137, Prioritization of Recommended Actions To Be Taken in Response to Fukushima Lessons Learned, dated October 3, 2011. SECY-11-0124 and SECY-11-0137 established the NRC staff's prioritization of the recommendation based upon the potential for each recommendation to enhance safety.

As discussed in the Staff Requirements Memorandum associated with SECY-12-0025, Proposed Orders and Requests for Information in Response to Lessons Learned from Japan's March 11, 2011, Great Tohoku Earthquake and Tsunami, dated March 9, 2012, the Commission determined that the additional requirements in Order EA-12-051 represent “a substantial increase in the protection of public health and safety.” Consequently, the Commission decided to administratively exempt this Order from applicable provisions of the Backfit Rule, Title 10 of the Code of Federal Regulations (10 CFR), 50.109, and the issue finality requirements in 10 CFR part 52.

As required by Order EA-12-051, the NRC staff is issuing a draft version of JLD-ISG-12-03 to provide additional details on an acceptable approach for complying with Order EA-12-051 requirements. The staff intends to issue the final ISG in August 2012 following consideration of public comments.

Numerous public meetings were held to receive stakeholder input on the proposed requirement for spent fuel pool instrumentation enhancements prior to issuance of Order EA-12-051. Following issuance of Order EA-12-051, several more public meetings were held with representatives from the NEI task force to discuss development of the guidance for compliance with Order EA-12-051. By letter dated May 11, 2012, the NEI task force submitted a guidance document for the implementation of Order EA-12-051 and requested the NRC endorsement.

Proposed Action

By this action, the NRC is requesting public comments on draft JLD-ISG-2012-03. This ISG proposes guidance related to requirements contained in Order EA-12-051, Reliable Spent Fuel Pool Instrumentation. The NRC staff will make a final determination regarding issuance of the JLD-ISG after it considers any public comments received in response to this request.

Dated at Rockville, Maryland, this 31st day of May 2012.
For the Nuclear Regulatory Commission.
David L. Skeen,
Director, Japan Lessons-Learned Project Directorate, Office of Nuclear Reactor Regulation.

[FR Doc. 2012-13811 Filed 6-6-12; 8:45 am]

BILLING CODE 7590-01-P